DEPARTMENT OF ENERGY

Federal Energy Regulatory Commission

Combined Notice of Filings # 1

November 24, 2009.

Take notice that the Commission received the following electric corporate filings:

Docket Numbers: EC10-23-000.

Applicants: Edison Sault Electric Company, Wisconsin Energy. Corporation

Description: Application of Wisconsin Energy Corporation, et al.

Filed Date: 11/23/2009.

Accession Number: 20091123-5244.

Comment Date: 5 p.m. Eastern Time on Monday, December 14, 2009.

Take notice that the Commission received the following exempt wholesale generator filings:

Docket Numbers: EG10-10-000.

Applicants: FSE Blythe 1, LLC.

Description: Self Certification Notice of FSE Blythe 1, LLC.

Filed Date: 11/23/2009.

Accession Number: 20091123-5240.

Comment Date: 5 p.m. Eastern Time on Monday, December 14, 2009.

Take notice that the Commission received the following electric rate filings:

Docket Numbers: ER01-889-012; ER01-3013-004.

Applicants: California Independent System Operator Corporation.

Description: Status Report of the California Independent System Operator Corporation.

Filed Date: 11/23/2009.

Accession Number: 20091123-5270.

Comment Date: 5 p.m. Eastern Time on Monday, December 14, 2009.

Docket Numbers: ER01-462-002

Applicants: DPL Energy Resources, Inc.

Description: DPL Energy Resources, Inc submits amended application to modify market based rate tariffs, to request waivers of requirements for transactions among affiliates and for other approvals in conformance with Order No 697.

Filed Date: 11/20/2009.

Accession Number: 20091123-0194.

Comment Date: 5 p.m. Eastern Time on Monday, November 30, 2009.

Docket Numbers: ER08-1343-003; ER08-1353-003.

Applicants: Southern California Edison Company.

Description: Southern California Edison Co submits refunds to reflect the Settlement rates and Transmission Revenue Requirement in compliance with the Commission's 9/11/09 Order.

Filed Date: 11/20/2009.

Accession Number: 20091123-0219.

Comment Date: 5 p.m. Eastern Time on Friday, December 11, 2009.

Docket Numbers: ER09-621-004.

Applicants: TAQA Gen X LLC.

Description: TAQA Gen X LLC Notice of Non-Material Change in Status.

Filed Date: 11/24/2009.

Accession Number: 20091124-5038.

Comment Date: 5 p.m. Eastern Time on Tuesday, December 15, 2009.

Docket Numbers: ER09-655-002.

Applicants: Duke Energy Retail Sales, LLC.

Description: Duke Energy Retail Sales, LLC Compliance Filing.

Filed Date: 11/24/2009.

Accession Number: 20091124-5047.

Comment Date: 5 p.m. Eastern Time on Tuesday, December 15, 2009.

Docket Numbers: ER09-701-003.

Applicants: PJM Interconnection, L.L.C.

Description: PJM Interconnection submits Sixth Revised Sheet 66 et al. to Third Revised Rate Schedule FERC 24.

Filed Date: 11/20/2009.

Accession Number: 20091123-0223.

Comment Date: 5 p.m. Eastern Time on Friday, December 11, 2009.

Docket Numbers: ER09-1253-002.

Applicants: Midwest Independent Transmission System Operator, Inc.

Description: Midwest Independent Transmission System Operator, Inc submits proposed revisions to Attachment P of their Open Access Transmission, Energy and Operating Reserve Markets Tariff, FERC Electric Tariff etc.

Filed Date: 11/19/2009.

Accession Number: 20091123-0216.

Comment Date: 5 p.m. Eastern Time on Thursday, December 10, 2009.

Docket Numbers: ER09-1307-001.

Applicants: EnergyConnect, Inc.

Description: Additional Information Regarding EnergyConnect, Inc.'s Application for Market-Based Rate Authority.

Filed Date: 11/20/2009.

Accession Number: 20091120-5046.

Comment Date: 5 p.m. Eastern Time on Friday, December 04, 2009.

Docket Numbers: ER09-1431-001.

Applicants: Midwest Independent Transmission System Operator, Inc.

Description: Midwest Independent Transmission System Operator, Inc submits revisions to the Open Access Transmission, Energy and Operating Reserve Market Tariff in compliance with the Commission's 10/23/09 Order.

Filed Date: 11/20/2009.

Accession Number: 20091123-0221.

Comment Date: 5 p.m. Eastern Time on Friday, December 11, 2009.

Docket Numbers: ER09-1765-001.

Applicants: MidAmerican Energy Company.

Description: MidAmerican Energy Company et al. submits a revised Sheet 2758Z to the Open Access Transmission, Energy and Operating Reserve Markets Tariff.

Filed Date: 11/20/2009.

Accession Number: 20091123-0222.

Comment Date: 5 p.m. Eastern Time on Friday, December 11, 2009.

Docket Numbers: ER10-293-000.

Applicants: First Point Power, LLC.

Description: First Point Power, LLC submits petition for acceptance of initial tariff, waivers and blanket authority.

Filed Date: 11/23/2009.

Accession Number: 20091123-0079.

Comment Date: 5 p.m. Eastern Time on Monday, December 14, 2009.

Docket Numbers: ER10-294-000.

Applicants: Xcel Energy Services Inc.

Description: Northern States Power Co-MN submits their Operation and Maintenance Agreement with Minnesota Municipal Power Agency.

Filed Date: 11/19/2009.

Accession Number: 20091123-0215.

Comment Date: 5 p.m. Eastern Time on Thursday, December 10, 2009.

Docket Numbers: ER10-295-000.

Applicants: E.ON U.S. LLC.

Description: E. ON. U.S. LLC submits First Revised Sheet No. 139 to Fourth Revised Volume 1, Schedule 11, Loss Compensation Service etc.

Filed Date: 11/20/2009.

Accession Number: 20091123-0226.

Comment Date: 5 p.m. Eastern Time on Friday, December 11, 2009.

Docket Numbers: ER10-298-000.

Applicants: E.ON U.S. LLC.

Description: E. ON. U.S. LLC et al. submits an unexecuted Network Integration Transmission Service Agreement and an unexecuted Network Operating Agreement with Owensboro Municipal Utilities et al.

Filed Date: 11/20/2009.

Accession Number: 20091123-0225.

Comment Date: 5 p.m. Eastern Time on Friday, December 11, 2009.

Docket Numbers: ER10-299-000.

Applicants: PJM Interconnection, L.L.C.

Description: PJM Interconnection, LLC submits an executed interim interconnection service agreement with Hardin Wind Energy, LLC et al.

Filed Date: 11/19/2009.

Accession Number: 20091123-0217.

Comment Date: 5 p.m. Eastern Time on Thursday, December 10, 2009.

Docket Numbers: ER10-301-000.

Applicants: Black Hills Power, Inc.

Description: Black Hills Power, Inc et al. submits a Generation Dispatch and Energy Management Agreement, effective 11/19/09.

Filed Date: 11/19/2009.

Accession Number: 20091123-0218.

Comment Date: 5 p.m. Eastern Time on Thursday, December 10, 2009.

Docket Numbers: ER10-304-000.

Applicants: New York State Reliability Council, L.L.C.

Description: New York State Reliability Council, L.L.C.'s Petition to Amend the New York State Reliability Council Agreement.

Filed Date: 11/23/2009.

Accession Number: 20091123-5243.

Comment Date: 5 p.m. Eastern Time on Monday, December 14, 2009.

Take notice that the Commission received the following electric reliability filings:

Docket Numbers: RR10-4-000.

Applicants: North American Electric Reliability Corporation.

Description: Petition of North American Electric Reliability Corporation for Approval of Amendments to its Rules of Procedure—Amendments to the Reliability Standards Development Procedure.

Filed Date: 11/23/2009.

Accession Number: 20091123-5245.

Comment Date: 5 p.m. Eastern Time on Monday, December 14, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC.

There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-29082 Filed 12-4-09; 8:45 am]

BILLING CODE 6717-01-P